NATIONAL SCIENCE FOUNDATION

Uniform Administrative Requirements, Cost Principles, and Audit Requirements for Federal Awards; Request for Public Comment

AGENCY: National Science Foundation (NSF).

ACTION: Request for public comment on updated Research Terms and Conditions (RTC) to address and implement the Uniform Administrative Requirements, Cost Principles, and Audit Requirements for Federal Awards issued by the U.S. Office of Management and Budget (OMB).

SUMMARY: In 2000, the Federal Demonstration Partnership (FDP), a cooperative initiative among numerous Federal agencies and institutional recipients of research funds aimed at reducing the administrative burdens associated with research grants and contracts, developed Standard Terms and Conditions as a model implementation of OMB Circular A-110. These terms were an effective set of requirements for many agency research awards. In 2005, following public and agency comment on the original FDP terms, standard research terms and conditions were developed by Research Business Models (RBM), an Interagency Working Group of the Social, Behavioral & Economic Research Subcommittee of the Committee on Science (CoS), a committee of the National Science and Technology Council (NSTC). In 2008, a side-by-side comparison of OMB Circular A-110 and the Research Terms and Conditions was developed; the terms and conditions were updated in 2011.

This project is an initiative of the Research Business Models (RBM) Interagency Working Group. One of the RBM Subcommittee's priority areas is to create greater consistency in the administration of Federal research awards. Given the increasing complexity of interdisciplinary and interagency research, it has become increasingly important for Federal agencies to manage awards in a similar fashion.

On June 30, 2014, a proposal was presented to the RBM on behalf of the participating agencies from the RBM Interagency Working Group to develop a revised set of RTCs for implementing the Uniform Administrative Requirements, Cost Principles, and Audit Requirements for Federal Awards, 2 CFR 200 (Uniform Guidance). The purpose was to develop a revised set of RTCs as they apply to research and research-related grants made by the following awarding agencies to institutions of higher education and non-profit organizations.

The agencies participating in this activity include the: U.S. Department of Commerce/National Oceanic and Atmospheric Administration and National Institute of Standards and Technology; U.S. Department of Energy; U.S. Environmental Protection Agency; National Aeronautics and Space Administration; National Science Foundation; U.S. Department of Health and Human Services/National Institutes of Health; U.S. Department of Agriculture/National Institute of Food and Agriculture; U.S. Department of Transportation/Federal Aviation Administration; and the U.S. Department of Homeland Security.

While the Uniform Guidance outlines provisions that are specific to research, these terms and conditions:

• Incorporate the entire Uniform Guidance by reference, clarifying or supplementing select provisions where appropriate and consistent with government-wide research policy.

• Apply to an award when included as part of the award or when incorporated in the award by reference. Use of the RTCs is envisioned as a streamlined approach that supports the implementation of the Uniform Guidance by providing clarification, supplementary guidance, and, where appropriate, selected options, while meeting the spirit and intent of a uniform implementation. The RTCs also include flexibility for additional individual agency clarification through the incorporation of appendices and matrices. The side-by-side RTCs depict pertinent sections of the Uniform Guidance on the left side and clarifications for research and research-related awards on the right side.

On behalf of the RBM, the National Science Foundation (NSF) has agreed to continue to serve as the sponsor of the updated version of these RTCs. The general public and Federal agencies are invited to comment on the proposed revised format during the 60-day public comment period. A “For Comment” version of the proposed RTCs, along with previous versions of the Research Terms and Conditions and other related materials, are posted on the NSF Web site at: http://www.nsf.gov/awards/managing/rtc.jsp.

After obtaining and considering public comment, the RBM will prepare the format for final clearance.

DATES: Comments must be received by December 14, 2015.

ADDRESSES: Comments should be addressed to Suzanne H. Plimpton, Reports Clearance Officer, Office of the General Counsel, National Science Foundation, 4201 Wilson Blvd., Arlington, VA, 22230, email splimpto@nsf.gov; telephone: (703) 292-7556; FAX (703) 292- 9240. We encourage respondents to submit comments electronically to ensure timely receipt. We cannot guarantee that comments mailed will be received before the comment closing date. Please include “Research Terms and Conditions” in the subject line of the email message; please also include the full body of your comments in the text of the message and as an attachment. Include your name, title, organization, postal address, telephone number, and email address in your message.

FOR FURTHER INFORMATION CONTACT: To view the draft Research Terms and Conditions, see: http://www.nsf.gov/awards/managing/rtc.jsp. For information on the Research Terms and Conditions, contact Jean Feldman, Head, Policy Office, Division of Institution & Support, National Science Foundation, 4201 Wilson Blvd., Arlington, VA, 22230, email: jfeldman@nsf.gov; telephone (703) 292-8243; FAX: (703) 292-9171.

Dated: October 8, 2015.
Suzanne H. Plimpton,
Reports Clearance Officer, National Science Foundation.

[FR Doc. 2015-26090 Filed 10-13-15; 8:45 am]

BILLING CODE 7555-01-P